DEPARTMENT OF LABOR

Employment and Training Administration

[TA-W-50,734]

Genesis Designs, Bend, OR; Dismissal of Application for Reconsideration

Pursuant to 29 CFR 90.18(C) an application for administrative reconsideration was filed with the Director of the Division of Trade Adjustment Assistance for workers at Genesis Designs, Bend, Oregon. The application contained no new substantial information which would bear importantly on the Department's determination. Therefore, dismissal of the application was issued.

TA-W-50,734; Genesis Designs, Bend, Oregon (April 29, 2003).

Signed in Washington, DC, this 30th day of April, 2003.
Terrence Clark,
Acting Director, Division of Trade Adjustment Assistance.

[FR Doc. 03-11277 Filed 5-6-03; 8:45 am]

BILLING CODE 4510-30-P